NUCLEAR REGULATORY COMMISSION

[Docket No. 50-362; NRC-2009-0023]

Southern California Edison Company; San Onofre Nuclear Generating Station, Unit 3; Exemption

1.0 Background

Southern California Edison Company (SCE, the licensee) is the holder of Facility Operating License No. NPF-15, which authorizes operation of San Onofre Nuclear Generating Station, Unit 3 (SONGS 3). The license provides, among other things, that the facility is subject to all rules, regulations, and orders of the U.S. Nuclear Regulatory Commission (NRC, the Commission) now or hereafter in effect.

The facility consists of a pressurized-water reactor located in San Diego County, California.

2.0 Request/Action

Title 10 of the Code of Federal Regulations (10 CFR), Part 74, Section 74.19(c), requires that each licensee who is authorized to possess special nuclear material (SNM), at any one time and site location, in a quantity greater than 350 grams of contained uranium-235, uranium-233, or plutonium, or any combination thereof, shall conduct a physical inventory of all SNM in its possession under license at intervals not to exceed 12 months.

By application dated January 14, 2008, the licensee requested an exemption from certain requirements in Section 74.19(c) for SONGS 3. The exemption would allow SCE not to perform the physical inventory for 12 irradiated fission chambers removed from SONGS 3 that are stored in the plant.

3.0 Discussion

Pursuant to 10 CFR 74.7, the Commission may, upon application of any interested person or upon its own initiative, grant such exemptions from the requirements of the regulations in this part, when (1) the exemptions are authorized by law, will not present undue risk to public health and safety, and, will not endanger life or property or the common defense and security, and (2) when special circumstances are present. These special circumstances include actions to maintain exposures to radiation as low as is reasonably achievable (ALARA).

Authorized by Law

This exemption would exempt the licensee from the requirements of 10 CFR 74.19(c) for the physical inventory requirements of 12 irradiated fission chambers removed from SONGS 3 in 1995 and in storage. As stated above, 10 CFR 74.7 allows the NRC to grant exemptions from the requirements of 10 CFR part 74. The NRC staff has determined that granting of the licensee's proposed exemption will not result in a violation of the Atomic Energy Act of 1954, as amended, or the Commission's regulations. Therefore, the exemption is authorized by law.

No Undue Risk to Public Health and Safety

The underlying purposes of 10 CFR 74.19 is for licensees to conduct a physical inventory of special nuclear material in its possession at periodic intervals and to retain records associated with each physical inventory. No changes in the physical or administrative controls are associated with the special nuclear materials related to this request. The licensee will continue to conduct an annual inventory of the 12 fission chambers by visual verification to confirm that the high integrity container (HIC), where the 12 fission chambers are stored, remains in its storage location and the container is structurally intact. In addition, the visual inventory will be augmented to include verification that the tamper-indicating device installed in November 2007 on the HIC has not been disturbed. Based on the above, no new accident precursors are created with the exemption from this requirement. Thus, the probability of postulated accidents is not increased. Also, based on the above, the consequences of postulated accidents are not increased. Therefore, there is no undue risk to public health and safety.

Will Not Endanger Life or Property or Common Defense and Security

Physical location and administrative controls associated with the storage of the 12 irradiated fission chambers are adequately controlled and accounted for by the licensee. Therefore, the exemption will not endanger life or property or common defense and security.

Otherwise in the Public Interest

The licensee pointed out that the ALARA requirement in 10 CFR Part 20, “Standards for protection against radiation,” requires “* * * making every reasonable effort to maintain exposures to radiation as far below the dose limits in this part as is practical consistent with the purpose for which the licensed activity is undertaken, * * *” This request for an exemption from the physical inventory requirements of 10 CFR 74.19(c) would relieve SCE of potentially significant occupational radiation exposures with no decrease in quality and safety. Therefore, the exemption is in the public interest and consistent with the special circumstances of maintaining exposures ALARA.

4.0 Conclusion

Accordingly, the Commission has determined that, pursuant to 10 CFR 74.7, the exemption is authorized by law and will not endanger life or property or the common defense and security, and is otherwise in the public interest. Therefore, the Commission hereby grants SCE an exemption to SONGS 3 from the requirements of 10 CFR 74.19(c) for physical inventory for 12 irradiated fission chambers removed from SONGS 3 in 1995 and in storage. In accordance with the licensee's letter dated January 14, 2008, SCE will continue to conduct an annual inventory of the 12 fission chambers by visual verification to confirm that the HIC, where the 12 fission chambers are stored, remains in its storage location and the container is structurally intact. In addition, the visual inventory will be augmented to include verification that the tamper-indicating device installed in November 2007 on the HIC has not been disturbed. The annual physical inventory of all other SNM will continue to be performed per the requirements of 10 CFR 74.19(c).

Pursuant to 10 CFR 51.32, the Commission has determined that the granting of this exemption will not have a significant effect on the quality of the human environment (73 FR 79936, dated December 30, 2008).

This exemption is effective upon issuance.

Dated at Rockville, Maryland, this 15th day of January 2009.
For the Nuclear Regulatory Commission
Joseph G. Giitter,
Director, Division of Operating Reactor Licensing, Office of Nuclear Reactor Regulation.

[FR Doc. E9-1566 Filed 1-23-09; 8:45 am]

BILLING CODE 7590-01-P